DEPARTMENT OF HEALTH AND HUMAN SERVICES

Agency for Healthcare Research and Quality

Meeting of the National Advisory Council Subcommittee Identifying Quality Measures for Medicaid Eligible Adults

AGENCY: Agency for Healthcare Research and Quality (AHRQ).

ACTION: Notice of public meeting.

SUMMARY: This notice announces a meeting of a Subcommittee of the National Advisory Council for Healthcare Research and Quality.

DATES: The meeting will be held on Tuesday, August 9th from 10 a.m. to 6 p.m., and Wednesday, August 10th from 9 a.m. to 3 p.m.

ADDRESSES: The meeting will be held at the Westin Washington, DC City Center, 1400 M Street, NW., Washington DC.

FOR FURTHER INFORMATION CONTACT: Nancy Wilson, MD MPH, Coordinator of the National Advisory Council Subcommittee Identifying Quality Measures for Medicaid Eligible Adults at the Agency for Healthcare Research and Quality, 540 Gaither Road, Rockville, Maryland, 20850, (301) 427-1310. For press-related information, please contact Karen Migdail at (301) 427-1855.

If sign language interpretation or other reasonable accommodation for a disability is needed, please contact the Food and Drug Administration (FDA) Office of Equal Employment Opportunity and Diversity Management on (301) 827-4840, no later than August 1, 2011. The agenda, roster, and meeting report will be available from Dr. Wilson.

SUPPLEMENTARY INFORMATION:

I. Purpose of the National Advisory Council Subcommittee Identifying Quality Measures for Medicaid Eligible Adults

The purpose of the National Advisory Council Subcommittee Identifying Quality Measures for Medicaid Eligible Adults is to develop consensus on a core set of health quality measures for Medicaid-eligible adults. While a number of current efforts to assess, publicly report, and improve quality of care include Medicaid eligible adults, this core set of measures will reflect aspects of care particularly important to Medicaid recipients that are not currently assessed consistently and routinely.

Section 2701 of the Affordable Care Act (ACA), which added Section 1139B to Title XI of the Social Security Act, requires the Secretary of Health and Human Services to identify and publish a recommended core set of health quality measures for Medicaid eligible adults. AHRQ and the Centers for Medicare and Medicaid Services (CMS) have entered into an interagency agreement to collaboratively identify these measures. Section 2701 also requires the Secretary, in consultation with States, to develop a standardized format for reporting information and to develop procedures that encourage voluntary reporting based on the initial core set of measures. The Secretary is also required to establish a Medicaid Quality Measurement Program that will fund the development, testing, and validation of emerging and innovative evidence-based measures and to subsequently publish recommended changes to the initial core measure set. Not later than September 30, 2014 and annually thereafter the Secretary is required to collect, analyze, and make publically available the information reported by the States.

The National Advisory Council Subcommittee Identifying Quality Measures for Medicaid Eligible Adults met on October 18th and 19th 2010, and identified an initial core set of measures. These measures were subsequently posted in the Federal Register for a two month public comment period. This initial core set of measures must be finalized by January 1, 2012.

The purpose of the National Advisory Council Subcommittee Identifying Quality Measures for Medicaid Eligible Adults is to: (a) Review the public comment analysis, (b) determine and apply criteria by which the initial list is further refined, and (c) make recommendations to the National Advisory Council regarding finalizing the initial core set of measures. The National Advisory Council Subcommittee Identifying Quality Measures for Medicaid Eligible Adults membership will reflect expertise in healthcare quality measurement, healthcare disparities, and in the populations eligible for Medicaid. Elizabeth McGlynn, PhD, Director, Kaiser Permanente Center for Effectiveness & Safety Research, and Foster Gesten, M.D., Medical Director of Office of Insurance Programs for New York, co-chair the SNAC.

Role of the National Advisory Council

The National Advisory Council for Healthcare Research and Quality is authorized by Section 941 of the Public Health Service Act, 42 U.S.C. 299c. In accordance with its statutory mandate, the Council is to advise the Secretary of the Department of Health and Human Services and the Director, Agency for Healthcare Research and Quality (AHRQ), on matters related to AHRQ's conduct of its mission including providing guidance on (A) Priorities for health care research, (B) the field of health care research including training needs and information dissemination on health care quality and (C) the role of the Agency in light of private sector activity and opportunities for public private partnerships.

The Council is composed of members of the public, appointed by the Secretary, and Federal ex-officio members specified in the authorizing legislation.

II. Agenda

The final agenda will be available on the AHRQ Web site at http://www.AHRQ.gov no later than August 1, 2011.

Dated: July 8, 2011.
Carolyn M. Clancy,
Director.

[FR Doc. 2011-18791 Filed 7-26-11; 8:45 am]

BILLING CODE 4160-90-M